FEDERAL COMMUNICATIONS COMMISSION

[DA 00-760]

Wireless Telecommunications Bureau Sets Comment Schedule for Petitions for Reconsideration of the Order on Reconsideration of the Fourth Report and Order in WT Docket No. 97-82

AGENCY: Federal Communications Commission.

ACTION: Notice.

SUMMARY: This document gives notice of a jointly filed petition for reconsideration of the Order on Reconsideration of the Fourth Report and Order in WT Docket No. 97-82 and sets an expedited schedule for filing oppositions.

DATES: Oppositions are due April 17, 2000.

ADDRESSES: Interested parties who choose to file by paper must file an original and four copies of their filing with the Office of the Secretary, Federal Communications Commission, TW B204, 445 12th Street, SW, Washington, DC 20554. In addition, parties should send two copies to Audrey Bashkin, Legal Branch, Auctions and Industry Analysis Division, Wireless Telecommunications Bureau, Federal Communications Commission, 445 12th St. SW Washington, DC 20554, and one copy to ITS, at 1231 20th Street, NW, Washington, D.C. 20036.

FOR FURTHER INFORMATION CONTACT: Audrey Bashkin at (202) 418-0660. The fax number is (202) 418-0890.

SUPPLEMENTARY INFORMATION: This is a summary of a Public Notice released April 5, 2000. The complete text of the public notice is available for inspection and copying during normal business hours in the FCC Reference Center (Room CY-A257), 445 12th Street, SW, Washington, D.C. 20554. It may also be purchased from the Commission's copy contractor, International Transcription Services, Inc. (ITS, Inc.) 1231 20th Street, NW, Washington, D.C. 20036, (202) 857-3800. It is also available on the Commission's web site at http://www.fcc.gov.

1. Notice is hereby given that the parties listed have jointly petitioned the Commission for reconsideration of the Order on Reconsideration of the Fourth Report and Order (Order on Reconsideration) in WT Docket No. 97-82, FCC 00-54, 65 FR 14213 (March 16, 2000). The Order on Reconsideration addresses petitions for reconsideration of the C Block Fourth Report and Order, 63 FR 50791 (September 23, 1998), in which the Commission modified the rules governing auctions of C block broadband Personal Communications Services (“PCS”) spectrum.

2. In light of the auction schedule for the upcoming PCS C and F block auction (“Auction No. 35”), and the requests of certain commenters that the Commission resolve all issues related to Auction No. 35 in an expedited manner, the Wireless Telecommunications Bureau (“Bureau”) has determined that good cause exists in this instance to alter the periods specified in § 1.429 of the Commission's rules for oppositions to petitions for reconsideration. Preliminary review of the petition indicates that it raises issues regarding the eligibility of certain parties to participate in Auction No. 35. To provide timely guidance to prospective bidders, we must close the record on reconsideration issues on an expedited schedule. We note also that there are pending petitions for reconsideration on spectrum cap issues. Accordingly, oppositions to petitions for reconsideration of the Order on Reconsideration shall be filed no later then April 17, 2000.

3. The petition listed reflects Commission records as of April 4, 2000. Any timely filed petitions subsequently posted on the Electronic Comment Filing System (ECFS), or received in paper form, will be subject to a filing schedule for oppositions similar to that adopted herein. In addition, the record of comments and other documents filed in response to the petitions of Nextel Communications, Inc. and SBC Communications Inc. regarding PCS C and F block rules will be incorporated into this docket. See PCS C and F Block Spectrum Public Notice, 65 FR 8363 (February 18, 2000). See also DA 00-318, released February 18, 2000. Commenters therefore need not restate their positions on C and F block issues in response to this petition for reconsideration.

Procedural Matters

4. Parties submitting oppositions should address the petitions for reconsideration in light of the requirements of 47 U.S.C. 309, 47 CFR 1.429 and any other public interest considerations. All oppositions should reference the docket number of this proceeding, i.e., WT Docket No. 97-82.

5. This proceeding has been designated as a “permit-but-disclose” proceeding in accordance with the Commission's ex parte rules. 47 CFR 1.1200(a), 1.1206. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

6. Parties may obtain the Order on Reconsideration and petitions for reconsideration at the FCC website, http://www.fcc.gov/e-file/ecfs.html. The petitions are also available for public inspection and copying in the Reference Center, Room CY A257, 445 12th Street, SW, Washington, DC 20554. Copies of the petitions are also available from ITS at 1231 20th Street, N.W., Washington, DC 20036, or by calling (202) 857-3800.

7. Oppositions to petitions for reconsideration may be filed using the Commission's Electronic Comment Filing System (ECFS) or by filing paper copies. Oppositions filed through the ECFS can be sent as an electronic file via the Internet to http://www.fcc.gov/e-file/ecfs.html. Generally, only one copy of an electronic submission must be filed. In completing the transmittal screen, parties should include their full name, Postal Service mailing address, and the applicable docket or rulemaking number. Parties may also submit an electronic opposition by Internet e-mail. To get filing instructions for e-mail filings, parties should send an e-mail message to ecfs@fcc.gov, including “get form to <your e-mail address>” in the body of the message. A sample form and directions will be sent in response.

Parties Filing Petitions for Reconsideration in WT Docket 97-82

8. This list reflects the Commission's records as of April 4, 2000 of parties that have petitioned the Commission for reconsideration of the Order on Reconsideration. Sprint Spectrum L.P. and US WEST Wireless, LLC (April 4, 2000) (filing jointly).

Federal Communications Commission.
Louis J. Sigalos,
Deputy Chief, Auctions & Industry Analysis Division.

[FR Doc. 00-8784 Filed 4-6-00; 8:45 am]

BILLING CODE 6712-01-P